DEPARTMENT OF AGRICULTURE

Agricultural Marketing Service

Submission for OMB Review; Comment Request

September 22, 2016.

The Department of Agriculture will submit the following information collection requirement(s) to OMB for review and clearance under the Paperwork Reduction Act of 1995, Public Law 104-13 on or after the date of publication of this notice. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by October 28, 2016. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: AMS Grant Programs.

OMB Control Number: 0581-0240.

Summary of Collection: The Agricultural Marketing Service (AMS) recently consolidated its grant programs into one Grants Division. Due to this organization merger, AMS is merging its other three grant collections, 0581-0235 “Farmers' Market Promotion Program,” (FMPP); 0581-0248 “Specialty Crop Block Grant Program (SCBGP)—Farm Bill,” 0581-0287 “Local Food Promotion Program,” (LFPP); and a new program “Specialty Crop Multi-state Program,” into the renewal of 0581-0240 “The Federal-State Marketing Improvement Program.” (FSMIP) This revised collection will be retitled 0581-0240 “AMS Grant Programs.” All the grant programs are authorized pursuant to the Agricultural Marketing Act (AMA) of 1946 (7 U.S.C. 1621, et. seq.) and the Farmer-to-Consumer Direct Marketing Act of 1976 (7 U.S.C. 3001) are implemented through the Uniform Administrative Requirements, Cost Principles, and Audit Requirements for Federal Awards (Super Circular) (2 CFR 200).

Need and Use of the Information: The grants authorized by the FMPP are targeted to help improve and expand domestic farmers' markets, roadside stands, community-supported agriculture programs, agri-tourism activities, and other direct producer-to-consumer marketing opportunities. Grants authorized under LFPP support the development and expansion of local and regional food business enterprises to increase domestic consumption of, and access to locally and regionally produced agricultural products, and to develop new market opportunities for farm and ranch operations serving local markets. The SCBGP works to increase the competitiveness of specialty crops. The SCMP competitively award funds to State departments of agriculture to solely enhance the competitiveness of specialty crops by funding collaborative, multi-state projects that address regional or national level specialty crop issues. FSMIP provides matching funds on a competitive basis to assist eligible entities in exploring new market opportunities and to encourage research and innovation aimed at improving the efficiency and performance of the marketing system. The information collection requirements in this request are needed to implement the grant programs. The information will be used by AMS to establish the entity's eligibility for participation, the suitability of the budget for the proposed project, and compliance with applicable Federal regulations.

Description of Respondents: State, Local or Tribal Government.

Number of Respondents: 1,866.

Frequency of Responses: Reporting: Annually; Semi-annually.

Total Burden Hours: 51,820.

Agricultural Marketing Service

Title: Specialty Crops Market News Reports.

OMB Control Number: 0581-0006.

Summary of Collection: Section 203(g) of the Agricultural Marketing Act of 1946 (7 U.S.C. 1621) directs and authorizes the collection of information and disseminating of marketing information including adequate outlook information on a market-area basis for the purpose of anticipating and meeting consumer requirements, aiding in the maintenance of farm income and bring about balance between production and utilization of agriculture products. Market News provides all interested segments of the market chain with market information tends to equalize the competitive position of all market participants. The fruit and vegetable industries, through their organizations, or government agencies present formal requests that the Department of Agriculture issue daily, weekly, semi-monthly, or monthly market news reports on various aspects of the industry.

This renewal submission reflects a name change to the Program. A notice to trade was posted September 16, 2015, indicating the Program name be changed from Fruit and Vegetable Program to Specialty Crops Program.

Need and Use of the Information: AMS will collect market information on some 411 specialty crops for prices and supply. The production of Market News reports that are then available to the industry and other interested parties in various formats. Information is provided on a voluntary basis and collected in person through face-to-face interviews and by confidential telephone throughout the country by market reporters. The absence of these data would deny primary and secondary users information that otherwise would be available to aid them in their production, marketing decisions, analyses, research and knowledge of current market conditions. The omission of these data could adversely affect prices, supply, and demand.

Description of Respondents: Farms; Business or other for-profit.

Number of Respondents: 4,359.

Frequency of Responses: Reporting: Daily; Weekly; Monthly.

Total Burden Hours: 84,155.

Agricultural Marketing Service

Title: Reporting and Recordkeeping Requirements under Regulations (Other than Rules of Practice) Under the Perishable Agricultural Commodities Act, 1930.

OMB Control Number: 0581-0031.

Summary of Collection: The Perishable Agricultural Commodities Act (PACA) (7 U.S.C. 499a-499t) and 7 CFR part 46, establishes a code of fair trading practices covering the marketing of fresh and frozen fruits and vegetables in interstate or foreign commerce. It protects growers, shippers and distributors by prohibiting unfair practices. PACA requires nearly all persons who operate as commission merchants, dealers and brokers buying or selling fruit and or vegetables in interstate or foreign commerce to be licensed. The license for retailers and grocery wholesalers is effective for three years and for all other licensees up to three years, unless withdrawn.

Need and Use of the Information: Using various forms and business records, AMS will collect information from the applicant to administer licensing provisions under the Act, to adjudicate contract disputes, and for the purpose of enforcing the PACA and its regulations. If this information were unavailable, it would be impossible to identify and regulate the individuals or firms that are restricted due to sanctions imposed because of the reparation or administrative actions.

Description of Respondents: Business or other for-profit; Farms.

Number of Respondents: 13,543.

Frequency of Responses: Recordkeeping; Reporting: On occasion.

Total Burden Hours: 87,406.

Charlene Parker,
Departmental Information Collection Clearance Officer.

[FR Doc. 2016-23319 Filed 9-27-16; 8:45 am]

BILLING CODE 3410-02-P